DEPARTMENT OF HEALTH AND HUMAN SERVICES

Food and Drug Administration

21 CFR Part 573

[Docket No. FDA-2017-F-0969]

Canadian Oilseed Processors Association; Withdrawal of Food Additive Petition (Animal Use)

AGENCY: Food and Drug Administration, HHS.

ACTION: Notification; withdrawal of petition.

SUMMARY: The Food and Drug Administration (FDA) is announcing the withdrawal, without prejudice to a future filing, of a food additive petition (FAP 2299) proposing that the food additive regulations be amended to provide for the safe use of spent bleaching clay as a flow agent in canola meal for all livestock and poultry species. Additionally, the petition proposed that the regulations be amended to provide for the safe use of silicon dioxide and diatomaceous earth as components of spent bleaching clay.

DATES: The food additive petition was withdrawn on January 12, 2021.

ADDRESSES: For access to the docket, go to https://www.regulations.gov and insert the docket number, found in brackets in the heading of this document, into the “Search” box and follow the prompts, and/or go to the Dockets Management Staff, 5630 Fishers Lane, Rm. 1061, Rockville, MD 20852.

FOR FURTHER INFORMATION CONTACT: Chelsea Cerrito, Center for Veterinary Medicine, HFV-221, Food and Drug Administration, 7519 Standish Pl., Rm. 2684, Rockville, MD 20855, 240-402-6729, Chelsea.Cerrito@fda.hhs.gov.

SUPPLEMENTARY INFORMATION: In a notice published in the Federal Register on April 18, 2017 (82 FR 18268), FDA announced that we had filed a food additive petition (FAP 2299), submitted by Canadian Oilseed Processors Association, 404-167 Lombard Ave., Winnipeg MB R3B 0T6, Canada. The petition proposed to amend part 573 of title 21 of the Code of Federal Regulations (CFR), Food Additives Permitted in Feed and Drinking Water of Animals (21 CFR part 573), to provide for the safe use of spent bleaching clay as a flow agent in canola meal for all livestock and poultry species. Additionally, the submission proposed that the existing regulations be amended to provide for the safe use of silicon dioxide (21 CFR 573.940) and diatomaceous earth (21 CFR 573.340) for use as components of spent beaching clay. The Canadian Oilseed Processors Association has now withdrawn the petition without prejudice to a future filing (21 CFR 571.7).

Dated: April 30, 2021.
Lauren K. Roth,
Acting Principal Associate Commissioner for Policy.

[FR Doc. 2021-09715 Filed 5-6-21; 8:45 am]

BILLING CODE 4164-01-P